NUCLEAR REGULATORY COMMISSION

[NRC-2020-0164]

Biweekly Notices: Applications and Amendments to Licenses Involving No Significant Hazards Considerations

AGENCY: Nuclear Regulatory Commission.

ACTION: Notice of revised schedule and title change.

SUMMARY: The U.S. Nuclear Regulatory Commission (NRC) is notifying the public of its revised schedule and title change for Biweekly Notices of Applications and Amendments to Facility Operating Licenses and Combined Licenses Involving No Significant Hazards Considerations.

DATES: The revised scheduled and title change described in this document takes effect on November 3, 2020.

ADDRESSES: Please refer to Docket ID NRC-2020-0164 when contacting the NRC about the availability of information regarding this document. You may obtain publicly-available information related to this document using any of the following methods:

• Federal Rulemaking Website: Go to https://www.regulations.gov/ and search for Docket ID NRC-2020-0164. Address questions about NRC docket IDs to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov.

FOR FURTHER INFORMATION CONTACT: Eva Brown, Office of Nuclear Reactor Regulation, U.S. Nuclear Regulatory Commission, Washington, DC 20555-0001, telephone: 301-415-2315, email: Eva.Brown@nrc.gov.

SUPPLEMENTARY INFORMATION: Section 189a.(2)(A) of the Atomic Energy Act of 1954, as amended (the Act), grants the Commission the authority to issue and make immediately effective any amendment to an operating license or any amendment to a combined construction and operating license, as applicable, upon a determination by the Commission that such amendment involves no significant hazards consideration, notwithstanding the pendency before the Commission of a request for a hearing from any person. Section 189a.(2)(B) of the Act, as amended, requires that the Commission periodically (but not less frequently than once every 30 days) publish notice of any amendments issued, or proposed to be issued pursuant to section 189a.(2)(A). To fulfill this requirement, the NRC periodically issues a document entitled, “Biweekly Notice; Applications and Amendments to Facility Operating Licenses and Combined Licenses Involving No Significant Hazards Considerations,” in the Federal Register.

Instead of publishing Biweekly Notices every 14 days, the NRC will publish a notice approximately every 4 weeks (every 28 days). The new title for this publication will be “Monthly Notice; Applications and Amendments to Licenses Involving No Significant Hazards Considerations.” This streamlined publication schedule will provide efficiency to the public and stakeholders locating pertinent information and will provide a government cost savings in time and print expenses.

Dated: September 29, 2020.
For the Nuclear Regulatory Commission.
Craig G. Erlanger,
Director, Division of Operating Reactor Licensing, Office of Nuclear Reactor Regulation.

[FR Doc. 2020-21918 Filed 10-5-20; 8:45 am]

BILLING CODE 7590-01-P